DEPARTMENT OF COMMERCE

International Trade Administration

[C-533-872]

Finished Carbon Steel Flanges From India: Postponement of Preliminary Determination in the Countervailing Duty Investigation

AGENCY: Enforcement and Compliance, International Trade Administration, Department of Commerce.

DATES: Effective September 8, 2016.

FOR FURTHER INFORMATION CONTACT: Emily Maloof at (202) 482-5649, or Davina Friedmann at (202) 482-0698, AD/CVD Operations, Enforcement and Compliance, International Trade Administration, Department of Commerce, 14th Street and Constitution Avenue NW., Washington, DC 20230.

SUPPLEMENTARY INFORMATION:

Background

On July 20, 2016, the Department of Commerce (the Department) initiated a countervailing duty investigation on finished carbon steel flanges from India.¹ Currently, the preliminary determination is due no later than September 23, 2016.

¹ See Finished Carbon Steel Flanges From India: Initiation of Countervailing Duty Investigation, 81 FR 49625 (July 28, 2016).

Postponement of the Preliminary Determinations

Section 703(b)(1) of the Tariff Act of 1930, as amended (the Act), requires the Department to issue the preliminary determination in a countervailing duty investigation within 65 days after the date on which the Department initiated the investigation. However, if the petitioner makes a timely request for an extension in accordance with 19 CFR 351.205(e), section 703(c)(1)(A) of the Act allows the Department to postpone the preliminary determination until no later than 130 days after the date on which the Department initiated the investigation.

On August 24, 2016, Petitioners ² submitted a timely request pursuant to section 703(c)(1)(A) of the Act and 19 CFR 351.205(e) to postpone the preliminary determination.³ In its request, Petitioners state: “As the Department has not yet made a selection of mandatory respondents, Petitioners seek postponement of the preliminary determination to permit the Department sufficient time to receive, analyze, and comment on the questionnaire responses prior to the preliminary determination.” ⁴

² Weldbend Corporation (Weldbend) and Boltex Manufacturing Co., L.P. (Boltex) (collectively, Petitioners).

³ See Letter from Petitioners, “Re: Finished Carbon Steel Flanges from India: Request for the Postponement of the Preliminary Determination,” dated August 24, 2016.

⁴ Id., at 1-2.

For the reasons stated above and because there are no compelling reasons to deny the request, the Department, in accordance with section 703(c)(1)(A) of the Act, is postponing the deadline for the preliminary determination to no later than 124 days after the day on which the investigation was initiated. As a result, the Department will issue its preliminary determination no later than November 21, 2016. In accordance with section 735(a)(1) of the Act, the deadline for the final determination of this investigation will continue to be 75 days after the date of the preliminary determination, unless postponed at a later date.

This notice is issued and published pursuant to section 703(c)(2) of the Act and 19 CFR 351.205(f)(1).

Dated: August 31, 2016.
Paul Piquado,
Assistant Secretary for Enforcement and Compliance.

[FR Doc. 2016-21653 Filed 9-7-16; 8:45 am]

BILLING CODE 3510-DS-P